DEPARTMENT OF LABOR

Employment and Training Administration

[Funding Opportunity Number: SGA/DFA PY 10-13]

Announcement of Updated Funding Availability for H-1B Technical Skills Training Grants

AGENCY: Employment and Training Administration, Labor.

ACTION: Notice of Additional Funding.

SUMMARY: On May 3, 2011, the Employment and Training Administration (ETA) published a notice in the Federal Register announcing the availability of $240 million for the H-1B Technical Skills Training Grants to be awarded through a competitive process in SGA/DFA PY 10-13. Through this notice, ETA clarifies existing language in Section II.A of the Solicitation for Grant Application (SGA).

SUPPLEMENTARY INFORMATION: Clarification: The Department of Labor is interested in clarifying the amount of grant funding available and encouraging additional applicants to apply for the H-1B Technical Skills Training Grants competition that will close on November 17, 2011. The original SGA indicated $240 million in grant funds available; however, because of additional H-1B fees collected, ETA is likely to award additional grants in Round 2 to quality competitive applicants that provide On-the-Job Training (OJT) as the primary or only training strategy to every participant. The current estimate of additional funds reserved for OJT will be approximately $100 million.

Relevant SGA Language, Section II.A., Award Amount, p. 5 states, “DOL anticipates that additional funding will accrue for this grant training program between the first and second rounds of grants contained in this Solicitation. Such additional funding may be made available for awards during the second round of funding, depending on the quality of applications received. Grant awards will be made only to the extent that funds are available.”

The complete SGA is available in detail on ETA's Web site at http://www.doleta.gov/grants/find_grants.cfm or on http://www.grants.gov. The Web sites provide application information, eligibility requirements, review and selection procedures and other program requirements governing this solicitation.

DATES: The closing date for receipt of applications is November 17, 2011.

FOR FURTHER INFORMATION CONTACT: Jeannette Flowers, Division of Workforce System Federal Assistance, 200 Constitution Avenue, NW., Room N-4716, Washington, DC 20210. Telephone: (202) 693-3322 (this is not a toll-free number). E-mail: flowers.jennette@dol.gov.

Laura Patton Watson,
Grant Officer, Employment and Training Administration.

[FR Doc. 2011-26185 Filed 10-5-11; 4:15 pm]

BILLING CODE 4510-FN-P